DEPARTMENT OF HOMELAND SECURITY

Federal Emergency Management Agency

[Docket ID FEMA-2015-0001; Internal Agency Docket No. FEMA-B-1466]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before May 11, 2015.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1466, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

(Catalog of Federal Domestic Assistance No. 97.022, “Flood Insurance.”)

Dated: January 16, 2015.
Roy E. Wright,
Deputy Associate Administrator for Mitigation, Department of Homeland Security, Federal Emergency Management Agency.

Community | Community map repository address
Harford County, Maryland, and Incorporated Areas
Maps Available for Inspection Online at: http://www.fema.gov/preliminaryfloodhazarddata
City of Aberdeen | Planning Department, 60 North Parke Street, Aberdeen, MD 21001.
City of Havre De Grace | Planning Department, 711 Pennington Avenue, Havre De Grace, MD 21078.
Town of Bel Air | Planning Department, 705 East Churchville Road, Bel Air, MD 21014.
Unincorporated Areas of Harford County | Planning and Zoning Department, 220 South Main Street, Bel Air, MD 21014.
Fayette County, Pennsylvania (All Jurisdictions)
Maps Available for Inspection Online at: http://www.fema.gov/preliminaryfloodhazarddata
Borough of Belle Vernon | Borough Building, 10 Main Street, Belle Vernon, PA 15012.
Borough of Brownsville | Borough Office, 200 Second Street, Brownsville, PA 15417.
Borough of Dawson | Borough Building, 209 Howell Street, Dawson, PA 15428.
Borough of Dunbar | Borough Building, 47 Connellsville Street, Dunbar, PA 15431.
Borough of Everson | Borough Building, 232 Brown Street, Everson, PA 15631.
Borough of Fairchance | Borough Building, 125 West Church Street, Fairchance, PA 15436.
Borough of Markleysburg | Borough Municipal Building, 150 Main Street, Markleysburg, PA 15459.
Borough of Masontown | Borough Municipal Building, 1 East Church Avenue, Masontown, PA 15461.
Borough of Newell | Borough Municipal Building, 412 Second Street, Newell, PA 15466.
Borough of Ohiopyle | Borough Building, Rear 17 Sherman Street, Ohiopyle, PA 15470.
Borough of Perryopolis | Borough Office, 312 Independence Street, Perryopolis, PA 15473.
Borough of Point Marion | Borough Building, 426 Morgantown Street, Point Marion, PA 15474.
Borough of Smithfield | Borough Building, 14 Water Street, Smithfield, PA 15478.
Borough of South Connellsville.. | Borough Building, 1503 South Pittsburgh Street, South Connellsville, PA 15425.
Borough of Vanderbilt | Borough Building, 196 Main Street, Vanderbilt, PA 15486.
City of Connellsville | City Hall, 110 North Arch Street, Connellsville, PA 15425.
City of Uniontown | City Hall, 20 North Gallatin Avenue, Uniontown, PA 15401.
Township of Brownsville | Township Building, 232 Brown Street, Brownsville, PA 15417.
Township of Bullskin | Bullskin Township Municipal Building, 178 Shenandoah Road, Connellsville, PA 15425.
Township of Connellsville | Township Secretary's Office, 166 McCoy Hollow Road, Connellsville, PA 15425.
Township of Dunbar | Dunbar Township Municipal Building, 3 Bell Drive, Connellsville, PA 15431.
Township of Franklin | Franklin Township Building, 353 Town and Country Road, Vanderbilt, PA 15486.
Township of Georges | Georges Township Building, 1151 Township Drive, Uniontown, PA 15401.
Township of German | German Township Municipal Building, 2 Long Street, McClellandtown, PA 15458.
Township of Henry Clay | Henry Clay Township Building, 156 Martin Road, Markleysburg, PA 15459.
Township of Jefferson | Jefferson Township Municipal Building, 262 Stuckslager Road, Perryopolis, PA 15473.
Township of Lower Tyrone | Lower Tyrone Township Building, 456 Banning Road, Dawson, PA 15428.
Township of Luzerne | Luzerne Township Building, 415 Hopewell Road, Brownsville, PA 15417.
Township of Menallen | Menallen Township Building, 427 Searight-Herbert Road, Uniontown, PA 15401.
Township of Nicholson | Nicholson Township Municipal Building, 142 Woodside Old Frame Road, Smithfield, PA 15478.
Township of North Union | North Union Township Municipal Building, 7 South Evans Station Road, Lemont Furnace, PA 15456.
Township of Perry | Perry Township Building, One Township Drive, Star Junction, PA 15482.
Township of Redstone | Redstone Township Building, 225 Twin Hills Road, Grindstone, PA 15442.
Township of Saltlick | Saltlick Township Municipal Building, 147 Municipal Building Road, Melcroft, PA 15462.
Township of South Union | South Union Township Building, 151 Township Drive, Uniontown, PA 15401.
Township of Springfield | Springfield Township Municipal Building, 755 Mill Run Road, Mill Run, PA 15464.
Township of Springhill | Springhill Township Municipal Building, 198 Lake Lynn Road, Lake Lynn, PA 15451.
Township of Stewart | Stewart Township Municipal Building, 373 Grover Road, Ohiopyle, PA 15470.
Township of Upper Tyrone | Upper Tyrone Township Building, 170 Municipal Drive, Connellsville, PA 15425.
Township of Washington | Washington Township Offices, 1390 Fayette Avenue, Belle Vernon, PA 15012.
Township of Wharton | Wharton Township Municipal Building, 114 Elliotsville Road, Farmington, PA 15437.
Mingo County, West Virginia, and Incorporated Areas
Maps Available for Inspection Online at: http://www.fema.gov/preliminaryfloodhazarddata
City of Williamson | City Hall, 107 East 4th Avenue, Williamson, WV 25661.
Town of Kermit | City Hall, 101 Main Street, Kermit, WV 25674.
Town of Matewan | City Hall, 306 McCoy Alley, Matewan, WV 25678.
Unincorporated Areas of Mingo County | Mingo County Floodplain Management Office, 75 East 2nd Avenue, Room 325, Williamson, WV 25661.

[FR Doc. 2015-02515 Filed 2-6-15; 8:45 am]

BILLING CODE 9110-12-P